DEPARTMENT OF AGRICULTURE

Grain Inspection, Packers and Stockyards Administration

[00-02-a]

Opportunity for Designation in the Virginia, Frankfort (IN), and Indianapolis (IN) Areas, and Request for Comments on the Official Agencies Serving These Areas

AGENCY: Grain Inspection, Packers and Stockyards Administration (GIPSA).

ACTION: Notice.

SUMMARY: The designations of the official agencies listed below will end in January and February 2001. GIPSA is asking persons interested in providing official services in the areas served by these agencies to submit an application for designation. GIPSA is also asking for comments on the services provided by these currently designated agencies:

Virginia Department of Agriculture and Consumer Services (Virginia);

Frankfort Grain Inspection, Inc. (Frankfort); and

Indianapolis Grain Inspection and Weighing Service, Inc. (Indianapolis).

DATES: Applications and comments must be postmarked or sent by telecopier (FAX) on or before June 30, 2000.

ADDRESSES: Applications may be obtained at www.usda.gov/gipsa/, under Designation Application Forms. Applications and comments must be submitted to USDA, GIPSA, Janet M. Hart, Chief, Review Branch, Compliance Division, STOP 3604, Room 1647-S, 1400 Independence Avenue, SW., Washington, DC 20250-3604. If an application or comment is submitted by FAX, 202-690-2755, GIPSA reserves the right to request an original application. All applications and comments will be made available for public inspection at this address located at 1400 Independence Avenue, S.W., during regular business hours.

FOR FURTHER INFORMATION CONTACT: Janet M. Hart at 202-720-8525.

SUPPLEMENTARY INFORMATION: This Action has been reviewed and determined not to be a rule or regulation as defined in Executive Order 12866 and Departmental Regulation 1512-1; therefore, the Executive Order and Departmental Regulation do not apply to this Action.

Section 7(f)(1) of the United States Grain Standards Act, as amended (Act), authorizes GIPSA's Administrator to designate a qualified applicant to provide official services in a specified area after determining that the applicant is better able than any other applicant to provide such official services.

Section 7(g)(1) of the Act provides that designations of official agencies shall end not later than triennially and may be renewed according to the criteria and procedures prescribed in Section 7(f) of the Act.

1. Current Designations Being Announced for Renewal

Official agency | Main office | Current designation terms
Virginia | Richmond, VA | 02/01/1998-01/31/2001
Frankfort | Frankfort, IN | 03/01/1998-02/28/2001
Indianapolis | Indianapolis, IN | 03/01/1998-02/28/2001

a. Pursuant to Section 7(f)(2) of the Act, the following geographic area, the entire State of Virginia, except those export port locations within the State, is assigned to Virginia.

b. Pursuant to Section 7(f)(2) of the Act, the following geographic area, in the State of Indiana, is assigned to Frankfort.

Bounded on the North by the northern Fulton County line;

Bounded on the East by the eastern Fulton County line south to State Route 19; State Route 19 south to State Route 114; State Route 114 southeast to the eastern Fulton and Miami County lines; the northern Grant County line east to County Highway 900E; County Highway 900E south to State Route 18; State Route 18 east to the Grant County line; the eastern and southern Grant County lines; the eastern Tipton County line; the eastern Hamilton County line south to State Route 32;

Bounded on the South by State Route 32 west to the Boone County line; the eastern and southern Boone County lines; the southern Montgomery County line; and

Bounded on the West by the western and northern Montgomery County lines; the western Clinton County line; the western Carroll County line north to State Route 25; State Route 25 northeast to Cass County; the western Cass and Fulton County lines.

Frankfort's assigned geographic area does not include the following grain elevators inside Frankfort's area which have been and will continue to be serviced by the following official agency: Titus Grain Inspection, Inc.: The Andersons, Delphi, Carroll County; Frick Services, Inc., Leiters Ford, Fulton County; and Cargill, Inc., Linden, Montgomery County.

c. Pursuant to Section 7(f)(2) of the Act, the following geographic area, in the State of Indiana, is assigned to Indianapolis.

Bartholomew; Brown; Hamilton, south of State Route 32; Hancock; Hendricks; Johnson; Madison, west of State Route 13 and south of State Route 132; Marion; Monroe; Morgan; and Shelby Counties.

2. Opportunity for Designation

Interested persons, including Virginia, Frankfort, and Indianapolis are hereby given the opportunity to apply for designation to provide official services in the geographic areas specified above under the provisions of Section 7(f) of the Act and section 800.196(d) of the regulations issued thereunder. Persons wishing to apply for designation should contact the Compliance Division at the address listed above for forms and information.

Designation Terms

Virginia

02/01/2001-12/31/2003

Frankfort and Indianapolis

03/01/2001-12/31/2003

3. Request for Comments

GIPSA also is publishing this notice to provide interested persons the opportunity to present comments on the Virginia, Frankfort, and Indianapolis official agencies. Commenters are encouraged to submit pertinent data concerning the Virginia, Frankfort, and Indianapolis official agencies including information on the timeliness, cost, quality, and scope of services provided. All comments must be submitted to the Compliance Division at the above address.

Applications, comments, and other available information will be considered in determining which applicant will be designated.

Authority: Pub. L. 94-582, 90 Stat. 2867, as amended (7 U.S.C. 71 et seq.).

Dated: May 17, 2000.
Neil E. Porter,
Director, Compliance Division.

[FR Doc. 00-13322 Filed 5-31-00; 8:45 am]

BILLING CODE 3410-EN-P